DEPARTMENT OF COMMERCE

15 CFR Part 29

[Docket No. 241211-0323]

RIN 0605-AA57

Promoting the Rule of Law Through Improved Agency Guidance Documents Rescission

AGENCY: Department of Commerce.

ACTION: Final rule.

SUMMARY: This final rule rescinds the Department's regulations on guidance document procedures in accordance with a 2021 Executive order to revoke previous Executive orders concerning Federal regulation.

DATES: This final rule is effective December 18, 2024.

FOR FURTHER INFORMATION CONTACT: Xenia Kler, Office of the Assistant General Counsel for Legislation and Regulation, 202-482-5354, or via email xkler1@doc.gov.

SUPPLEMENTARY INFORMATION:

Background

Executive Order 13891, “Promoting the Rule of Law Through Improved Agency Guidance Documents,” sought to ensure that when Federal agencies issue guidance documents, the agencies: do not treat those guidance documents alone as imposing binding obligations both in law and in practice, except as incorporated into a contract; take public input into account in formulating significant guidance documents; and make guidance documents readily available to the public. (84 FR 55235, Oct. 15, 2019). On September 28, 2020, the Department issued an interim final rule, “Promoting the Rule of Law Through Improved Agency Guidance Documents” to implement E.O. 13891. (85 FR 60694). The interim final rule established 15 CFR part 29 for guidance document procedures, procedures for withdrawal or modification requests from the public, and procedures for significant guidance documents.

On January 20, 2021, President Biden issued E.O. 13992, “Revocation of Certain Executive Orders Concerning Federal Regulation,” revoking a number of Executive orders including E.O. 13891. (86 FR 7049, Jan. 25, 2021). E.O. 13992 directs agencies “to rescind any orders, rules, regulations, guidelines, or policies, or portions thereof, implementing or enforcing the revoked Executive orders.”

After review and consideration, the Department concluded that its rule on guidance documents deprives the Department of necessary flexibility in determining when and how best to issue guidance based on particular facts and circumstances consistent with the policy directive in E.O. 13992. Therefore, the Department is issuing this final rule to rescind its regulations at 15 CFR part 29. The Department will continue to pursue ways to make its guidance documents more accessible to the public. Additionally, in accordance with M-09-13, “Guidance for Regulatory Review,” the Office of Management and Budget will continue to review the Department's actions and documents subject to the Office of Information and Regulatory Affairs review under E.O. 12866. These reviews include policy and guidance documents that OMB determines are significant.

Classification

This final rule is a rule of agency organization, procedure, or practice, codifying in the CFR the Department's existing procedures. Therefore, pursuant to 5 U.S.C. 553(b)(3)(A), notice and public comment are not required. Because a notice and public comment are not required for this rule by 5 U.S.C. 553, or by any other law, the analytical requirements of the Regulatory Flexibility Act, 5 U.S.C. 601, et seq., are not applicable. Accordingly, no regulatory flexibility analysis is required and none has been prepared.

This rule has been determined to be not significant for purposes of Executive Order 12866.

This rule does not have any collection of information requirements under the Paperwork Reduction Act.

List of Subjects in 15 CFR Part 29

Administrative practice and procedure, Guidance documents.

PART 29—[REMOVED AND RESERVED]

For the reasons stated in the preamble and under the authority of 15 U.S.C. 1512, the Department of Commerce amends subtitle A in title 15 of the Code of Federal Regulations by removing and reserving part 29.

Dated: December 12, 2024.
Nell Abernathy,
Director, Office of Policy and Strategic Planning, U.S. Department of Commerce.

[FR Doc. 2024-29890 Filed 12-17-24; 8:45 am]

BILLING CODE P